DEPARTMENT OF TRANSPORTATION

Office of the Secretary

[Docket No. DOT-OST-2010-0211]

RIN 2105-AE07

Notice of Submission of Proposed Information Collection to OMB Agency Request for Renewal of a Previously Approved Information Collection Request: Reports by Air Carriers on Incidents Involving Animals During Air Transport

AGENCY: Office of the Secretary (OST), Department of Transportation (Department or DOT).

ACTION: Notice and request for comments.

SUMMARY: In accordance with the Paperwork Reduction Act (PRA) of 1995, this notice announces the Department's intention to reinstate the previously approved information collection request (ICR) Office of Management and Budget (OMB) control number 2105-0552, “Reports by Air Carriers on Incidents Involving Animals During Air Transport.” The information collection involves requirements in the Code of Federal Regulations for carriers to file reports with DOT on the loss, injury, or death of animals during air transport.

DATES: Comments on this notice must be received BY March 25, 2024. Late-filed comments will be considered to the extent practicable.

ADDRESSES: You may file comments identified by docket number DOT-OST-2010-0211 by any of the following methods:

• Federal eRulemaking Portal: http://www.regulations.gov. Follow the online instructions for submitting comments.

• Mail: Docket Management Facility; U.S. Department of Transportation, 1200 New Jersey Avenue SE, West Building, Room W12-140, Washington, DC 20590.

• Hand Delivery: U.S. Department of Transportation, West Building, Ground Floor, 1200 New Jersey Avenue SE, Room W12-140, Washington, DC 20590, between 9 a.m. and 5 p.m., Monday through Friday, except on Federal Holidays.

• Fax: 202-493-2251.

Instructions: You must include the agency name and docket number DOT-OST-2010-0211 at the beginning of your comment. All comments received will be posted without change to https://www.regulations.gov, including any personal information provided.

Privacy Act: Anyone can search the electronic form of all comments received in any of our dockets by the name of the individual submitting the comment (or signing the comment, if submitted on behalf of an association, business, labor union, etc.). You may review DOT's complete Privacy Act statement in the Federal Register published on April 11, 2000 (65 FR 19477-78), or you may visit www.dot.gov/privacy.

Docket: For access to the docket to read background documents or comments received, go to https://www.regulations.gov and follow the online instructions for accessing the docket.

FOR FURTHER INFORMATION CONTACT: Vinh Q. Nguyen, Office of the General Counsel, Office of the Secretary, U.S. Department of Transportation, 1200 New Jersey Avenue SE, Washington, DC 20590, 202-366-9342 (Voice), 202-366-7152 (Fax), or vinh.nguyen@dot.gov (email). Arrangements to receive this document in an alternative format may be made by contacting the above-named individual.

SUPPLEMENTARY INFORMATION:

Title: Reports by Air Carriers on Incidents Involving Animals During Air Transport.

OMB Control Number: 2105-0552.

Type of Request: Reinstatement of Information Collection Request.

Background: The Wendell H. Ford Aviation Investment and Reform Act for the 21st Century or “AIR-21” (Pub. L. 106-181), which was signed into law on April 5, 2000, includes section 710, “Reports by Carriers on Incidents Involving Animals During Air Transport.” This provision was codified as 49 U.S.C. 41721. The statute requires air carriers that provide scheduled passenger air transportation to submit monthly to the Secretary of Transportation a report on any incidents involving the loss, injury, or death of an animal (as defined by the Secretary of Transportation) during air transport provided by the air carrier.

On August 11, 2003, DOT, through its Federal Aviation Administration (FAA), issued a final rule implementing section 710 of AIR-21.¹ The rule required air carriers that provide scheduled passenger air transportation to submit a report to APHIS on any incident involving the loss, injury, or death of an animal during air transportation provided by the air carrier. Due to issues regarding whether APHIS had the capability to accept such information directly from the carriers, DOT made a technical change in the rule on February 14, 2005 to require air carriers to submit the required information directly to DOT's Aviation Consumer Protection Division (ACPD) rather than APHIS and to make the rule part of DOT's economic regulations.²

¹ Reporting Directive Regarding Incidents Involving Animals During Air Transport, 68 FR 47,798 (August 11, 2003).

² Reports by Air Carriers on Incidents Involving Animals During Air Transport, 70 FR 7,392 (February 14, 2005).

On July 3, 2014, DOT published a final rule amending the requirement that air carriers file reports with DOT on the loss, injury, or death of animals during air transport.³ The rule (1) expanded the reporting requirement from the largest U.S. carriers (i.e., U.S. carriers that account for at least 1 percent of domestic scheduled passenger revenue) to U.S. carriers that operate scheduled service with at least one aircraft with a design capacity of more than 60 seats; (2) expanded the definition of “animal” from only a pet in a family household to include all cats and dogs transported by covered carriers, regardless of whether the cat or dog is transported as a pet by its owner or as part of a commercial shipment (e.g., shipped by a breeder); (3) required covered carriers to file a calendar-year report in December, even if the carrier did not have any reportable incidents during the calendar year; (4) required covered carriers to provide in their December reports the total number of animals that were lost, injured, or died during air transport in the calendar year; and (5) required covered carriers to provide in their December reports the total number of animals transported in the calendar year. The ICR, “Reports by Air Carriers on Incidents Involving Animals During Air Transport,” OMB Control Number 2105-0552, was renewed twice: on August 25, 2015, OMB approved the renewal of the ICR through August 31, 2018, and on October 11, 2018, OMB approved the renewal of the ICR through October 31, 2021.

³ Reports by Air Carriers on Incidents Involving Animals During Air Transport, 79 FR 37,938 (July 3, 2014) (codified at 14 CFR part 235).

DOT is publishing this notice to announce its intent to request reinstatement of the previously approved ICR described above. The Paperwork Reduction Act of 1995 (PRA) and its implementing regulations, 5 CFR part 1320, require Federal agencies to issue two notices seeking public comment on information collection activities before OMB may approve paperwork packages. A Federal agency generally cannot conduct or sponsor a collection of information, and the public is generally not required to respond to an information collection, unless it is approved by the OMB under the PRA and displays a currently valid OMB Control Number. In addition, notwithstanding any other provisions of law, no person shall generally be subject to monetary penalty for failing to comply with a collection of information if the collection of information does not display a valid OMB Control Number.⁴

⁴ See 5 CFR 1320.5(a) and 1320.6.

Respondents: U.S. carriers that operate scheduled passenger service with at least one aircraft having a designed seating capacity of more than 60 seats.

Estimated Number of Respondents: 30.

Frequency: For each respondent, one information set for the month of December, plus one information set during some other months (1 to 12).

Estimated Total Burden on Respondents: (1) Monthly reports of incidents involving the loss, injury, or death of animals during air transport: 0 to 360 hours (Respondents [30] × Time to Prepare One Monthly Report [1 hour] × Frequency [0 to 12 per year]). (2) December report containing the total number of animals that were lost, injured, or died during air transport in the calendar year and the total number of animals that were transported in the calendar year: 15 hours (Respondents [30] × Time to Prepare One December Report [0.5 hour] × Frequency (1 per year)].

Public Comments Invited: You are asked to comment on any aspect of this information collection, including (a) whether the proposed collection of information is necessary for the Department's performance; (b) the accuracy of the estimated burden; (c) ways for the Department to enhance the quality, utility, and clarity of the information collection; and (d) ways that the burden could be minimized without reducing the quality of the collected information.

All comments will become a matter of public record. All responses to this notice will be summarized and included in the request for OMB approval.

Authority: The Paperwork Reduction Act of 1995; 44 U.S.C. chapter 35, as amended; and 49 CFR 1.26, 1.27, 1.48 and 1.49; DOT Order 1351.29.

Signed in Washington, DC, on this 19th day of January 2024, under authority delegated at 49 U.S.C. 1.27(n).
Kimberly Graber,
Deputy Assistant General Counsel, Office of Aviation Consumer Protection.

[FR Doc. 2024-01342 Filed 1-23-24; 8:45 am]

BILLING CODE 4910-9X-P